DEPARTMENT OF VETERANS AFFAIRS

[OMB Control No. 2900-0772]

Agency Information Collection Activity: VA Cooperative Studies Program

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed reinstatement of a currently approved collection, and allow 60 days for public comment in response to the notice.

DATES: Written comments and recommendations on the proposed collection of information should be received on or before January 5, 2018.

ADDRESSES: Submit written comments on the collection of information through Federal Docket Management System (FDMS) at www.Regulations.gov or to Brian McCarthy, Office of Regulatory and Administrative Affairs (10B4), Department of Veterans Affairs, 810 Vermont Avenue NW., Washington, DC 20420 or email to Brian.McCarthy4@va.gov. Please refer to “OMB Control No. 2900-0772” in any correspondence. During the comment period, comments may be viewed online through FDMS.

FOR FURTHER INFORMATION CONTACT: Brian McCarthy at (202) 461-6345.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: 38 U.S.C. part 1, Chapter 5, Section 527.

Title: VA Cooperative Studies Program (CSP); VA Form 10-10074, CSP Customer Satisfaction Survey; VA Form 10-10074a, Meeting Evaluation.

OMB Control Number: 2900-0772.

Type of Review: Reinstatement of a currently approved collection.

Abstract: The information collected will be used by VA Cooperative Studies Program (CSP) leadership to evaluate their Coordinating Centers' effectiveness in conducting meetings and interacting with participating study sites and other customers.

Affected Public: Individuals and households.

Estimated Annual Burden:

VA Form 10-10074—83 hours.

VA Form 10-10074a—83 hours.

Estimated Average Burden per Respondent:

VA Form 10-10074—10 minutes.

VA Form 10-10074a—10 minutes.

Frequency of Response: Annually.

Estimated Number of Respondents:

VA Form 10-10074—500.

VA Form 10-10074a—500.

By direction of the Secretary.
Cynthia Harvey-Pryor,
Department Clearance Officer, Office of Quality, Privacy and Risk, Department of Veterans Affairs.

[FR Doc. 2017-24057 Filed 11-3-17; 8:45 am]

BILLING CODE 8320-01-P